DEPARTMENT OF TRANSPORTATION

Federal Motor Carrier Safety Administration

49 CFR Part 385

[Docket No. FMCSA-6789 (Formerly FHWA 97-2252)]

RIN 2126-AA43

Safety Fitness Procedures; Safety Fitness Rating Methodology

AGENCY: Federal Motor Carrier Safety Administration (FMCSA), DOT.

ACTION: Final rule.

SUMMARY: This document amends the Safety Fitness Rating Methodology (SFRM) in appendix B to 49 CFR part 385 by updating the list of acute and critical regulations to conform to several regulatory removals and substantive amendments. As a result of earlier rulemaking, several of the citations in the list must be changed to reflect the amendments and revisions to the Federal Motor Carrier Safety Regulations (FMCSRs). The SFRM is used to measure the safety fitness of motor carriers against the safety fitness standard in 49 CFR part 385.

EFFECTIVE DATE: March 7, 2000.

FOR FURTHER INFORMATION CONTACT: Mr. William C. Hill, Regulatory Development Division, Office of Policy and Program Development, FMCSA, (202) 366-4009, or Mr. Charles E. Medalen, Office of the Chief Counsel, (202) 366-1354, Federal Highway Administration (FHWA), 400 Seventh Street, SW., Washington, DC 20590. Office hours are from 7:45 a.m. to 4:15 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at: http://www.nara.gov/fedreg and the Government Printing Office's database at: http://www.access.gpo.gov/nara.

Background

In October 1999, the Secretary of Transportation rescinded the authority previously delegated to the Federal Highway Administrator to perform motor carrier functions and operations. That authority was redelegated to the Director of the Office of Motor Carrier Safety (OMCS), a new office within the Department of Transportation (DOT) (64 FR 56270, October 19, 1999 and 64 FR 58356, October 29, 1999). Shortly thereafter, however, the Motor Carrier Safety Improvement Act of 1999 (Pub. L. 106-159, 113 Stat. 1748, December 9, 1999) created the Federal Motor Carrier Safety Administration (FMCSA) as a new operating administration of the DOT, effective January 1, 2000. The Secretary therefore rescinded the authority so recently delegated to the Director of the OMCS and redelegated that authority to the Administrator of the FMCSA (65 FR 220, January 4, 2000). This explains the docket transfer.

The new FMCSA assumes the motor carrier functions previously exercised by the OMCS and, before that, by the FHWA's Office of Motor Carriers. Ongoing rulemaking, enforcement, and other activities initiated by the OMCS or the FHWA will be continued by the FMCSA. The motor carrier functions performed by the FHWA's Division (i.e., State) offices and Resource Centers have been assumed by the FMCSA Division offices and FMCSA Resource Centers. All phone numbers remain unchanged for the time being.

On November 6, 1997, the FHWA published a final rule incorporating the agency's SFRM as an appendix to 49 CFR part 385, Safety Fitness Procedures (62 FR 60035). The SFRM is used to measure the safety fitness of motor carriers against the standard contained in 49 CFR part 385. On November 10, 1998 (63 FR 62957) the FHWA published amendments to the rule which corrected several minor errors. Other changes are also necessary, however.

The FHWA published a final rule on June 18, 1998 (63 FR 33254) which removed, amended, and redesignated certain provisions of the FMCSRs. Furthermore, a technical amendment was published on July 11, 1997 (62 FR 37150) which removed subpart H (Controlled Substances Testing) of 49 CFR part 391; the alcohol and controlled substances regulations are now codified at 49 CFR part 382. Another technical amendment was published on December 12, 1994 (59 FR 63921) which revised existing hazardous material classifications and descriptions to conform with the United Nations' Recommendations on the Transportation of Dangerous Goods.

As a result of these rulemakings, several of the citations in the list of acute and critical regulations must be changed to reflect the appropriate sections of the FMCSRs. This document amends the List of Acute and Critical Regulations to conform to these regulatory removals and substantive amendments. The List of Acute and Critical Regulations in appendix B to part 385, Section VII, is being reprinted in its entirety for ease of reference.

List of Acute and Critical Regulations

The following section is being removed from the List of Acute and Critical Regulations, as indicated by the table printed below: § 391.11(a)/391.95 Using an unqualified driver, a driver who has tested positive for controlled substances, or refused to be tested as required (acute). This removal is necessary to conform to the above July 11, 1997 technical amendment (62 FR 37150), which also removed subpart H (Controlled Substances Testing) of 49 CFR part 391; the alcohol and controlled substances regulations are now codified at 49 CFR part 382. The following sections are also being removed: § 391.51(c)(1) Failing to maintain medical examiner's certificate in driver's qualification file (critical); and § 391.51(d)(1) Failing to maintain medical examiner's certificate in driver's qualification file (critical). These removals are necessary to conform to a final rule published on June 18, 1998 (63 FR 33254), which removed, amended, and redesignated certain regulations which the FHWA considered obsolete, redundant, unnecessary, ineffective, burdensome, or that could better be addressed by State or local authorities or company policy.

The following sections are being redesignated: § 391.11(b)(6) Using a physically unqualified driver (acute); § 391.51(b)(1) Failing to maintain medical examiner's certificate in driver's qualification file (critical); and § 391.51(c)(3) Failing to maintain inquiries into driver's driving record in driver's qualification file (critical). Sections 395.1(i)(1)(i), 395.1(i)(1)(ii), 395.1(i)(1)(iii), and 395.1(i)(1)(iv), are redesignated as §§ 395.1(h)(1)(i), 395.1(h)(1)(ii), 395.(h)(1)(iii), and 395.1(h)(1)(iv) (critical) regulations, respectively. These redesignations are necessary to conform the final rule published on June 18, 1998 (63 FR 33254). Section 382.115(c) Failing to implement an alcohol and/or controlled substance testing program (acute) is being redesignated as § 382.115(a). This redesignation is necessary to correct an error introduced by technical amendments published on July 11, 1997 (62 FR 37150) which redesignated § 382.115(c) to specify the starting dates for testing programs for small foreign employers. However, § 382.115(c), as originally adopted in 1994, applied only to U.S. domestic carriers, which are now referred to in § 382.115(a); the reference to paragraph (c) is therefore being replaced with paragraph (a). Section 395.3(b) Requiring or permitting driver to drive after having been on duty more than 60 hours in 7 consecutive days (critical) and § 395.3(b) Requiring or permitting driver to drive after having been on duty more than 70 hours in 8 consecutive days (critical), are being redesignated as § 395.3(b)(1) and § 395.3(b)(2), respectively, to more accurately reflect the paragraphs in § 395.3(b). The table below shows the new section numbers.

The sections listed here are revised to read as follows: § 382.213(b) Using a driver known to have used a controlled substance (acute); § 382.215 Using a driver known to have tested positive for a controlled substance (acute); § 382.305(b)(1) Failing to conduct random alcohol testing at an annual rate of not less than the applicable annual rate of the average number of driver positions (critical); § 382.305(b)(2) Failing to conduct random controlled substances testing at an annual rate of not less than the applicable annual rate of the average number of driver positions (critical); § 382.503 Allowing a driver to perform safety sensitive function, after engaging in conduct prohibited by subpart B, without being evaluated by substance abuse professional, as required by § 382.605 (critical); § 383.37(a) Knowingly allowing, requiring, permitting, or authorizing an employee with a commercial driver's license which is suspended, revoked, or canceled by a state or who is disqualified to operate a commercial motor vehicle (acute); § 383.37(b) Knowingly allowing, requiring, permitting, or authorizing an employee with more than one commercial driver's license to operate a commercial motor vehicle (acute); § 391.45(b) Using a driver not medically examined and certified during the preceding 24 months (critical); and § 392.5(b)(2) Requiring or permitting a driver who shows evidence of having consumed an intoxicating beverage within 4 hours to operate a motor vehicle (acute). These revisions are necessary to make it clear that the testing rates for alcohol and controlled substances are dependent on the violation rates for the industry, or to have the revised descriptions more closely match the regulatory language in each section.

The following revisions are necessary to conform to the December 12, 1994, technical amendments which revised existing hazardous materials classifications and descriptions: Section 397.5(a) Failing to ensure a motor vehicle containing Division 1.1, 1.2, or 1.3 (explosive) material is attended at all times by its driver or a qualified representative (acute); § 397.7(a)(1) Parking a motor vehicle containing Division 1.1, 1.2, or 1.3 materials within 5 feet of traveled portion of highway or street (critical); § 397.7(b) Parking a motor vehicle containing hazardous material(s) other than Division 1.1, 1.2, or 1.3 materials within 5 feet of traveled portion of highway or street (critical); § 397.13(a) Permitting a person to smoke or carry a lighted cigarette, cigar or pipe within 25 feet of a motor vehicle containing Class 1 materials, Class 5 materials, or flammable materials classified as Division 2.1, Class 3, Divisions 4.1 and 4.2 (critical); and § 397.19(a) Failing to furnish driver of motor vehicle transporting Division 1.1, 1.2, or 1.3 (explosive) materials with a copy of the rules of part 397 and/or emergency response instructions (critical); and § 397.67(d) Requiring or permitting the operation of a motor vehicle containing explosives in Class 1, Divisions 1.1, 1.2, or 1.3 that is not accompanied by a written route plan (critical).

The following sections are revised to more closely match the regulatory language: Section 382.201 Using a driver known to have an alcohol concentration of 0.04 or greater (acute); § 382.605(c)(2)(ii) Failing to subject a driver who has been identified as needing assistance to at least six unannounced follow-up alcohol and/or controlled substances tests in the first 12 months following the driver's return to duty (critical); § 383.51(a) Knowingly allowing, requiring, permitting, or authorizing a driver to drive who is disqualified to drive a commercial motor vehicle (acute); § 387.31(d) Failing to maintain at principal place of business required proof of financial responsibility for passenger carrying vehicles (critical); § 396.11(c) Failing to correct Out-of-Service defects listed by driver in a driver vehicle inspection report before the vehicle is operated again (acute); and § 177.841(e) Transporting a package bearing a poison label in the same transport vehicle with material marked or known to be foodstuff, feed, or any edible material intended for consumption by humans or animals unless an exception in § 177.841(e)(i) or (ii) is met (acute).

For ease of reference the following distribution table is provided. Acute or critical regulations not listed in the left-hand column have not been changed.

Current acute or critical regulation | Corrected acute or critical regulation
382.115(c) | 382.115(a).
382.201 | Revised.
382.213(b) | Revised.
382.215 | Revised.
382.305(b)(1) | Revised.
382.305(b)(2) | Revised.
382.503 | Revised.
382.605(c)(2)(ii) | Revised.
383.37(a) | Revised.
383.37(b) | Revised.
383.51(a) | Revised.
387.31(d) | Revised.
391.11(a)/391.95 | Removed.
391.11(b)(6) | 391.11(b)(4).
391.45(b) | 391.45(b)(1).
391.51(b)(1) | 391.51(b)(7).
391.51(c)(1) | Removed.
391.51(c)(3) | 391.51(b)(2).
391.51(d)(1) | Removed.
392.5(b)(2) | Revised.
395.3(b) | 395.3(b)(1).
395.3(b) | 395.3(b)(2).
395.51(i)(1)(i) | 395.51(h)(1)(i).
395.51(i)(1)(ii) | 395.51(h)(1)(ii).
395.51(i)(1)(iii) | 395.51(h)(1)(iii).
395.51(i)(1)(iv) | 395.51(h)(1)(iv).
396.11(c) | Revised.
397.5(a) | Revised.
397.7(a)(1) | Revised.
397.7(b) | Revised.
397.13(a) | Revised.
397.19(a) | Revised.
397.67(d) | Revised.
177.841(e) | Revised.

Rulemaking Analyses and Notices

This final rule makes corrections to the List of Acute and Critical Regulations under section VII of appendix B to part 385. Because these amendments simply update the rule to conform to several regulatory removals or substantive amendments adopted in other notices and entail no further substantive revisions, the FMCSA finds good cause pursuant to 5 U.S.C. 553(b)(3)(B) to promulgate this final rule without notice and comment and to make it effective on the date of publication in the Federal Register pursuant to 5 U.S.C. 553(d)(3).

Executive Order 12866 (Regulatory Planning and Review) and DOT Regulatory Policies and Procedures

The FMCSA has determined that this action is not a significant regulatory action within the meaning of Executive Order 12866. The agency has also determined that this action is not a significant regulatory action under the DOT's regulatory policies and procedures. This final rule is clerical in nature and does not include substantive changes to 49 CFR part 385, appendix B.

Regulatory Flexibility Act

In compliance with the Regulatory Flexibility Act (5 U.S.C. 601-612), the FMCSA has evaluated the effects of this rule on small entities and has determined that it will not have a significant economic impact on a substantial number of small entities.

Unfunded Mandates Reform Act of 1995

This rule does not impose a Federal mandate resulting in the expenditure by State, local and tribal governments, in the aggregate, or by the private sector, of $100 million or more in any one year (2 U.S.C. 1532).

Executive Order 12988 (Civil Justice Reform)

This action meets applicable standards in sections 3(a) and 3(b) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 12630 (Taking of Private Property)

This rule will not effect a taking of private property or otherwise have taking implications under Executive Order 12630, Governmental Actions and Interference with Constitutionally Protected Property Rights.

Executive Order 13132 (Federalism)

This action has been analyzed in accordance with the principles and criteria contained in Executive Order 13132 dated August 4, 1999, and it has been determined this action does not have a substantial direct effect or sufficient federalism implications on States that would limit the policymaking discretion of the States. Nothing in this document directly preempts any State law or regulation.

Executive Order 12372 (Intergovernmental Review)

Catalog of Federal Domestic Assistance Program Number 20.217, Motor Carrier Safety. The regulations implementing Executive Order 12372 regarding intergovernmental consultation on Federal programs and activities do not apply to this program.

Paperwork Reduction Act

This action does not contain a collection of information requirement for the purposes of the Paperwork Reduction Act of 1995, 44 U.S.C. 3501-3520.

National Environmental Policy Act

The agency has analyzed this rulemaking for the purpose of the National Environmental Policy Act of 1969 (42 U.S.C. 4321-4347), and has determined that this action would not have any effect on the quality of the environment.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 49 CFR Part 385

Highway safety, Motor carriers, and Safety fitness procedures.

Issued on: February 22, 2000.
Julie Anna Cirillo,
Acting Deputy Administrator.

In consideration of the foregoing, Title 49, Code of Federal Regulations, Chapter III, part 385 is amended as set forth below:

PART 385—SAFETY FITNESS PROCEDURES

1. Revise the authority citation for part 385 to read as follows:

Authority: 49 U.S.C. 104, 504, 521(b)(5)(A), 5113, 31136, 31144, 31502; and 49 CFR 1.73.

2. Revise Section VII, List of Acute and Critical Regulations, of appendix B to part 385 to read as follows:

Appendix B to Part 385 Explanation of Safety Rating Process

* * * * *

VII. List of Acute and Critical Regulations.

§ 382.115(a)

Failing to implement an alcohol and/or controlled substances testing program (domestic motor carrier) (acute).

§ 382.201

Using a driver known to have an alcohol concentration of 0.04 or greater (acute).

§ 382.211

Using a driver who has refused to submit to an alcohol or controlled substances test required under part 382 (acute).

§ 382.213(b)

Using a driver known to have used a controlled substance (acute).

§ 382.215

Using a driver known to have tested positive for a controlled substance (acute).

§ 382.301(a)

Using a driver before the motor carrier has received a negative pre-employment controlled substance test result (critical).

§ 382.303(a)

Failing to conduct post accident testing on driver for alcohol and/or controlled substances (critical).

§ 382.305

Failing to implement a random controlled substances and/or an alcohol testing program (acute).

§ 382.305(b)(1)

Failing to conduct random alcohol testing at an annual rate of not less than the applicable annual rate of the average number of driver positions (critical).

§ 382.305(b)(2)

Failing to conduct random controlled substances testing at an annual rate of not less than the applicable annual rate of the average number of driver positions (critical).

§ 382.309(a)

Using a driver who has not undergone a return-to-duty alcohol test with a result indicating an alcohol concentration of less than 0.02 (acute).

§ 382.309(b)

Using a driver who has not undergone a return-to-duty controlled substances test with a result indicating a verified negative result for controlled substances (acute).

§ 382.503

Allowing a driver to perform safety sensitive function, after engaging in conduct prohibited by subpart B, without being evaluated by substance abuse professional, as required by § 382.605 (critical).

§ 382.505(a)

Using a driver within 24 hours after being found to have an alcohol concentration of 0.02 or greater but less than 0.04 (acute).

§ 382.605(c)(1)

Using a driver who has not undergone a return-to-duty alcohol test with a result indicating an alcohol concentration of less than .02 or with verified negative test result, after engaging in conduct prohibited by part 382 subpart B (acute).

§ 382.605(c)(2)(ii)

Failing to subject a driver who has been identified as needing assistance to at least six unannounced follow-up alcohol and/or controlled substance tests in the first 12 months following the driver's return to duty (critical).

§ 383.23(a)

Operating a commercial motor vehicle without a valid commercial driver's license (critical).

§ 383.37(a)

Knowingly allowing, requiring, permitting, or authorizing an employee with a commercial driver's license which is suspended, revoked, or canceled by a state or who is disqualified to operate a commercial motor vehicle (acute).

§ 383.37(b)

Knowingly allowing, requiring, permitting, or authorizing an employee with more than one commercial driver's license to operate a commercial motor vehicle (acute).

§ 383.51(a)

Knowingly allowing, requiring, permitting, or authorizing a driver to drive who is disqualified to drive a commercial motor vehicle (acute).

§ 387.7(a)

Operating a motor vehicle without having in effect the required minimum levels of financial responsibility coverage (acute).

§ 387.7(d)

Failing to maintain at principal place of business required proof of financial responsibility (critical).

§ 387.31(a)

Operating a passenger carrying vehicle without having in effect the required minimum levels of financial responsibility (acute).

§ 387.31(d)

Failing to maintain at principal place of business required proof of financial responsibility for passenger carrying vehicles (critical).

§ 390.15(b)(2)

Failing to maintain copies of all accident reports required by State or other governmental entities or insurers (critical).

§ 390.35

Making, or causing to make fraudulent or intentionally false statements or records and/or reproducing fraudulent records (acute).

§ 391.11(b)(4)

Using a physically unqualified driver (acute).

§ 391.15(a)

Using a disqualified driver (acute).

§ 391.45(a)

Using a driver not medically examined and certified (critical).

§ 391.45(b)(1)

Using a driver not medically examined and certified during the preceding 24 months (critical).

§ 391.51(a)

Failing to maintain driver qualification file on each driver employed (critical).

§ 391.51(b)(2)

Failing to maintain inquiries into driver's driving record in driver's qualification file (critical).

§ 391.51(b)(7)

Failing to maintain medical examiner's certificate in driver's qualification file (critical).

§ 392.2

Operating a motor vehicle not in accordance with the laws, ordinances, and regulations of the jurisdiction in which it is being operated (critical).

§ 392.4(b)

Requiring or permitting a driver to drive while under the influence of, or in possession of, a narcotic drug, amphetamine, or any other substance capable of rendering the driver incapable of safely operating a motor vehicle (acute).

§ 392.5(b)(1)

Requiring or permitting a driver to drive a motor vehicle while under the influence of, or in possession of, an intoxicating beverage (acute).

§ 392.5(b)(2)

Requiring or permitting a driver who shows evidence of having consumed an intoxicating beverage within 4 hours to operate a motor vehicle (acute).

§ 392.6

Scheduling a run which would necessitate the vehicle being operated at speeds in excess of those prescribed (critical).

§ 392.9(a)(1)

Requiring or permitting a driver to drive without the vehicle's cargo being properly distributed and adequately secured (critical).

§ 395.1(h)(1)(i)

Requiring or permitting a driver to drive more than 15 hours (Driving in Alaska) (critical).

§ 395.1(h)(1)(ii)

Requiring or permitting a driver to drive after having been on duty 20 hours (Driving in Alaska) (critical).

§ 395.1(h)(1)(iii)

Requiring or permitting driver to drive after having been on duty more than 70 hours in 7 consecutive days (Driving in Alaska) (critical).

§ 395.1(h)(1)(iv)

Requiring or permitting driver to drive after having been on duty more than 80 hours in 8 consecutive days (Driving in Alaska) (critical).

§ 395.3(a)(1)

Requiring or permitting driver to drive more than 10 hours (critical).

§ 395.3(a)(2)

Requiring or permitting driver to drive after having been on duty 15 hours (critical).

§ 395.3(b)(1)

Requiring or permitting driver to drive after having been on duty more than 60 hours in 7 consecutive days (critical).

§ 395.3(b)(2)

Requiring or permitting driver to drive after having been on duty more than 70 hours in 8 consecutive days (critical).

§ 395.8(a)

Failing to require driver to make a record of duty status (critical).

§ 395.8(e)

False reports of records of duty status (critical).

§ 395.8(i)

Failing to require driver to forward within 13 days of completion, the original of the record of duty status (critical).

§ 395.8(k)(1)

Failing to preserve driver's record of duty status for 6 months (critical).

§ 395.8(k)(1)

Failing to preserve driver's records of duty status supporting documents for 6 months (critical).

§ 396.3(b)

Failing to keep minimum records of inspection and vehicle maintenance (critical).

§ 396.9(c)(2)

Requiring or permitting the operation of a motor vehicle declared “out-of-service” before repairs were made (acute).

§ 396.11(a)

Failing to require driver to prepare driver vehicle inspection report (critical).

§ 396.11(c)

Failing to correct Out-of-Service defects listed by driver in a driver vehicle inspection report before the vehicle is operated again (acute).

§ 396.17(a)

Using a commercial motor vehicle not periodically inspected (critical).

§ 396.17(g)

Failing to promptly repair parts and accessories not meeting minimum periodic inspection standards (acute).

§ 397.5(a)

Failing to ensure a motor vehicle containing Division 1.1, 1.2, or 1.3 (explosive) material is attended at all times by its driver or a qualified representative (acute).

§ 397.7(a)(1)

Parking a motor vehicle containing Division 1.1, 1.2, or 1.3 materials within 5 feet of traveled portion of highway or street (critical).

§ 397.7(b)

Parking a motor vehicle containing hazardous material(s) other than Division 1.1, 1.2, or 1.3 materials within 5 feet of traveled portion of highway or street (critical).

§ 397.13(a)

Permitting a person to smoke or carry a lighted cigarette, cigar or pipe within 25 feet of a motor vehicle containing Class 1 materials, Class 5 materials, or flammable materials classified as Division 2.1, Class 3, Divisions 4.1 and 4.2 (critical).

§ 397.19(a)

Failing to furnish driver of motor vehicle transporting Division 1.1, 1.2, or 1.3 (explosive) materials with a copy of the rules of part 397 and/or emergency response instructions (critical).

§ 397.67(d)

Requiring or permitting the operation of a motor vehicle containing explosives in Class 1, Divisions 1.1, 1.2, or 1.3 that is not accompanied by a written route plan (critical).

§ 171.15

Carrier failing to give immediate telephone notice of an incident involving hazardous materials (critical).

§ 171.16

Carrier failing to make a written report of an incident involving hazardous materials (critical).

§ 177.800(c)

Failing to instruct a category of employees in hazardous materials regulations (critical).

§ 177.817(a)

Transporting a shipment of hazardous materials not accompanied by a properly prepared shipping paper (critical).

§ 177.817(e)

Failing to maintain proper accessibility of shipping papers (critical).

§ 177.823(a)

Moving a transport vehicle containing hazardous material that is not properly marked or placarded (critical).

§ 177.841(e)

Transporting a package bearing a poison label in the same transport vehicle with material marked or known to be foodstuff, feed, or any edible material intended for consumption by humans or animals unless an exception in § 177.841(e)(i) or (ii) is met (acute).

§ 180.407(a)

Transporting a shipment of hazardous material in cargo tank that has not been inspected or retested in accordance with § 180.407 (critical).

§ 180.407(c)

Failing to periodically test and inspect a cargo tank (critical).

§ 180.415

Failing to mark a cargo tank which passed an inspection or test required by § 180.407 (critical).

§ 180.417(a)(1)

Failing to retain cargo tank manufacturer's data report certificate and related papers, as required (critical).

§ 180.417(a)(2)

Failing to retain copies of cargo tank manufacturer's certificate and related papers (or alternative report) as required (critical).

[FR Doc. 00-5471 Filed 3-6-00; 8:45 am]

BILLING CODE 4910-22-P